DEPARTMENT OF HOMELAND SECURITY

Federal Emergency Management Agency

[Docket ID FEMA-2019-0002; Internal Agency Docket No. FEMA-B-1918]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 10, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1918, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Carroll County, Kentucky and Incorporated Areas
Project: 12-04-8528S Preliminary Date: September 20, 2018
City of Prestonville | Carroll County Emergency Operations Center, 829 Polk Street, Carrollton, KY 41008.
Unincorporated Areas of Carroll County | Carroll County Emergency Operations Center, 829 Polk Street, Carrollton, KY 41008.
Henry County, Kentucky and Incorporated Areas
Project: 12-04-8528S Preliminary Date: September 20, 2018
Unincorporated Areas of Henry County | Henry County Planning and Zoning Department, 19 South Property Road, New Castle, KY 40050.
Oldham County, Kentucky and Incorporated Areas
Project: 12-04-8528S Preliminary Date: September 20, 2018
City of Crestwood | Oldham County Planning and Zoning Department, 100 West Jefferson Street, La Grange, KY 40031.
City of La Grange | Oldham County Planning and Zoning Department, 100 West Jefferson Street, La Grange, KY 40031.
City of Orchard Grass Hills | Oldham County Planning and Zoning Department, 100 West Jefferson Street, La Grange, KY 40031.
Unincorporated Areas of Oldham County | Oldham County Planning and Zoning Department, 100 West Jefferson Street, La Grange, KY 40031.
Spencer County, Kentucky and Incorporated Areas
Project: 18-04-0034S Preliminary Date: September 28, 2018
City of Taylorsville | Spencer County Planning and Zoning, 220 Main Cross, Taylorsville, KY 40071.
Unincorporated Areas of Spencer County | Spencer County Planning and Zoning, 220 Main Cross, Taylorsville, KY 40071.
Trimble County, Kentucky and Incorporated Areas
Project: 12-04-8528S Preliminary Date: September 20, 2018
City of Milton | City Hall, 10179 Highway 421 North, Milton, KY 40045.
Unincorporated Areas of Trimble County | Office of Executive County Judge, 123 Church Street, Bedford, KY 40006.
Bradford County, Pennsylvania (All Jurisdictions)
Project: 16-03-0615S Preliminary Date: August 30, 2018
Borough of Athens | Municipal Building, 2 South River Street, Athens, PA 18810.
Borough of Sayre | Borough Hall, 110 West Packer Avenue, Sayre, PA 18840.
Borough of Towanda | Municipal Building, 724 Main Street, Towanda, PA 18848.
Borough of Wyalusing | Borough Hall, 50 Senate Street, Wyalusing, PA 18853.
Township of Asylum | Asylum Township Building, 19981 Route 187, Towanda, PA 18848.
Township of Athens | Athens Township Building, 45 Herrick Avenue, Sayre, PA 18840.
Township of Litchfield | Litchfield Township Building, 1391 Hill Road, Sayre, PA 18840.
Township of North Towanda | North Towanda Township Office, 292 Old Mills Road, Towanda, PA 18848.
Township of Sheshequin | Sheshequin Township Office, 1774 North Middle Road, Ulster, PA 18850.
Township of Standing Stone | Standing Stone Township Building, 35165 Route 6, Wysox, PA 18854.
Township of Terry | Terry Township Building, 1876 Rienze Road, Wyalusing, PA 18853.
Township of Towanda | Township Office, 44 Chapel Street, Towanda, PA 18848.
Township of Tuscarora | Tuscarora Township Building, 2298 Underhill Road, Laceyville, PA 18623.
Township of Ulster | Municipal Building, 23849 Route 220, Ulster, PA 18850.
Township of Wilmot | Wilmot Township Municipal Building, 4861 Route 187, Sugar Run, PA 18846.
Township of Wyalusing | Township Hall, 41908 Route 6, Wyalusing, PA 18853.
Township of Wysox | Township Building, 1789 Hillside Drive, Wysox, PA 18854.

[FR Doc. 2019-07163 Filed 4-10-19; 8:45 am]

BILLING CODE 9110-12-P